DEPARTMENT OF HEALTH AND HUMAN SERVICES

Administration for Children and Families

Submission for OMB Review; Comment Request

Title: Financial Institution Data Match

OMB No.: 0970-0196

Description: Section 466(a)(17) of the Social Security Act (the Act), as added by section 372 of Public Law 104-193, requires States to establish procedures under which the State child support enforcement (IV-D) agency shall enter into agreements with financial institutions doing business in the State for the purpose of securing information leading to the enforcement of child support orders.

Respondents: Financial Institutions

Annual Burden
Instrument | Number of respondents | Number of responses per respondent | Average burden hours per response | Total burden hours
Financial data match tape | 4233 | 4 | .5 | 8466
Election form | 241 | 1 | .5 | 120.5
Estimated total annual burden hours |  |  |  | 8586.5

Additional Information Copies of the proposed collection may be obtained by writing to The Administration for Children and Families, Office of Information Services, 370 L'Enfant Promenade, S.W., Washington, D.C. 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, N.W., Washington, D.C. 20503. Attn: Desk Officer for ACF.

Dated: June 6, 2001.
Bob Sargis,
Reports Clearance Officer.

[FR Doc. 01-14597 Filed 6-8-01; 8:45 am]

BILLING CODE 4184-01-M